DEPARTMENT OF VETERANS AFFAIRS

[OMB Control No. 2900-0260]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATE: Comments must be submitted on or before February 10, 2006.

FOR FURTHER INFORMATION OR A COPY OF THE SUBMISSION CONTACT: Denise McLamb, Records Management Service (005E3), Department of Veterans Affairs, 810 Vermont Avenue, NW., Washington, DC 20420, (202) 565-8374, FAX (202) 565-6950 or e-mail to: denise.mclamb@mail.va.gov. Please refer to “OMB Control No. 2900-0260.”

Send comments and recommendations concerning any aspect of the information collection to VA's OMB Desk Officer, OMB Human Resources and Housing Branch, New Executive Office Building, Room 10235, Washington, DC 20503, (202) 395-7316. Please refer to “OMB Control No. 2900-0260” in any correspondence.

SUPPLEMENTARY INFORMATION: Title:

a. Request for and Authorization to Release Medical Records or Health Information, VA Form 10-5345.

b. Individual's Request for a Copy of Their Own Health Information, VA Form 10-5345a.

OMB Control Number: 2900-0260.

Type of Review: Revision of a currently approved collection.

Abstract:

a. VA Form 10-5345 is used to obtain a written consent from patients before information concerning his or her treatment for alcoholism or alcohol abuse, drug abuse, sickle cell anemia, or infection with the human immunodeficiency virus (HIV) can be disclosed to private insurance companies, physicians and other third parties.

b. Patients complete VA Form 10-5345 to request a copy of their medical records from the Department of Veterans Affairs.

An agency may not conduct or sponsor, and a person is not required to respond to a collection of information unless it displays a currently valid OMB control number. The Federal Register Notice with a 60-day comment period soliciting comments on this collection of information was published on August 25, 2005 at page 49975.

Affected Public: Business or other for profit, Individuals or households, not for profit institutions.

Estimated Total Annual Burden:

a. VA Form 10-5345—16,667 hours.

b. VA Form 10-5345a—16,667 hours.

Estimated Average Burden Per Respondent:

a. VA Form 10-5345—2 minutes.

b. VA Form 10-5345a—2 minutes.

Frequency of Response: One time.

Estimated Number of Respondents:

a. VA Form 10-5345—500,000.

b. VA Form 10-5345a—500,000.

Dated: December 22, 2005.
By direction of the Secretary.
Denise McLamb,
Program Analyst, Records Management Service.

[FR Doc. E6-130 Filed 1-10-06; 8:45 am]

BILLING CODE 8320-01-P